DEPARTMENT OF VETERANS AFFAIRS

Research Advisory Committee on Gulf War Veterans' Illnesses; Notice of Meeting

The Department of Veterans Affairs (VA) gives notice under Public Law 92-463 Federal Advisory Committee Act, 5 U.S.C. App 2, that the Research Advisory Committee on Gulf War Veterans' Illnesses will meet on September 29, 2015, in Washington, DC. The meeting will be held in Room 230, 810 Vermont Avenue NW., Washington, DC from 9:00 a.m. until 5:30 p.m. All sessions will be open to the public, and for interested parties who cannot attend in person, there is a toll-free telephone number (800-767-1750; access code 56978#).

The purpose of the Committee is to provide advice and make recommendations to the Secretary of Veterans Affairs on proposed research studies, research plans, and research strategies relating to the health consequences of military service in the Southwest Asia theater of operations during the Gulf War in 1990-1991.

The Committee will review VA program activities related to Gulf War Veterans' illnesses, and updates on relevant scientific research published since the last Committee meeting. Presentations will include updates on the VA and Department of Defense Gulf War research programs, along with research presentations describing neurological problems in Gulf War Veterans. There will also be a discussion of Committee business and activities.

The meeting will include time reserved for public comments in the afternoon. A sign-up sheet for 5-minute comments will be available at the meeting. Individuals who wish to address the Committee may submit a 1-2 page summary of their comments for inclusion in the official meeting record. Members of the public may also submit written statements for the Committee's review to Dr. Roberta White at rwhite@bu.edu.

Because the meeting is being held in a government building, a photo I.D. must be presented as part of the clearance process. Therefore, any person attending should allow an additional 15 minutes before the meeting begins. Any member of the public seeking additional information should contact Dr. White, Scientific Director, at (617) 638-4620 or Dr. Victor Kalasinsky, Designated Federal Officer, at (202) 443-5682.

Dated: July 28, 2015.
Rebecca Schiller,
Committee Management Officer.

[FR Doc. 2015-18807 Filed 7-30-15; 8:45 am]

BILLING CODE 8320-01-P